DEPARTMENT OF COMMERCE

U.S. Census Bureau

Proposed Information Collection; Comment Request; Special Census Program

AGENCY: U.S. Census Bureau, Department of Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before March 28, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument(s) and instructions should be directed to J. Michael Stump, Bureau of the Census, 4600 Silver Hill Rd., Room 5H117, Washington, DC 20233 (or via the Internet at j.michael.stump@census.gov).

SUPPLEMENTARY INFORMATION:

I. Abstract

The Special Census Program is a reimbursable service offered and performed by the Census Bureau for the government of any state; county, city, or other political subdivision within a state; for the government of the District of Columbia; and for the government of any possession or area over which the U.S. exercises jurisdiction, control, or sovereignty, and other governmental units which require current population data between decennial censuses. The Special Census Program will be closing down for this decade in 2009 and will startup again after the 2010 Decennial Census. We are requesting an extension of the expiration date of the Special Census Program through June 2009, at which time, the program will close down and will be unavailable until after the 2010 Decennial Census.

Many states distribute funds based on current population statistics. In addition, special census data are used by the local jurisdictions to plan new schools, transportation systems, housing programs, and water treatment facilities.

The Census Bureau will use the following forms to update addresses listed on the Census Bureau's Master Address File (MAF) and to enumerate populations in special censuses:

SC-1, Special Census Enumerator Questionnaire—This interview form will be used to collect special census data at regular housing units (HU).

SC-1 (SUPP), Continuation Form for Enumerator Questionnaire—This interview form will be used to collect special census data at a regular HU when there are more than five members in a household.

SC-1 (Telephone), Special Census Enumeration Questionnaire—This interview form will be used to collect special census data when a respondent calls the local special census office.

SC-2, Special Census Special Place Questionnaire—This interview form will be used to collect special census data at group quarters (GQ) in special places (SP) such as hospitals, prisons, boarding and rooming houses, campgrounds, hotels, college dormitories, military facilities, and convents.

SC-116, Group Quarters Enumeration Control Sheet—This page will be used by Special Census enumerators to list residents/clients at GQs.

SC-351, Group Quarters Initial Contact Checklist—This checklist will be used by enumerators to collect contact information and to determine the type of GQ.

SC-920, Address Listing Page—This page will include existing addresses from the MAF. Special Census enumerators will update these addresses, if needed, at the time of enumeration.

SC-921(HU), Housing Unit Add Page—This page will be used by enumerators to add HUs that are observed to exist on the ground and that are not contained on the address listing page.

SC-921(SP), Special Place/Group Quarter Add Page—This page will be used by enumerators to add SPs/GQs that are observed to exist on the ground and that are not reflected in the address listing page.

The Special Census Program will operate as a generic OMB clearance including a library of forms and the operational procedures that will be used for the remaining special censuses we anticipate conducting this decade. The Census Bureau will establish a reimbursable agreement with a variety of potential special census customers that are unknown at this time.

Census will submit for OMB's review and approval, using a change worksheet, any special-purpose questions requested by customers to be added to special census questionnaires.

II. Method of Collection

The Special Census Program will use the Census 2000 Update/Enumerate (U/E) methodology. Enumerators will canvass their assigned areas with an address register that contains addresses obtained from the MAF. Special Census enumerators will update the address information, as needed, based on their observation of HUs and/or SPs/GQs that exist on the ground. Additionally, enumerators will interview households at regular HUs and residents at GQs using the appropriate Special Census questionnaire.

III. Data

OMB Control Number: 0607-0368.

Form Numbers: SC-1, SC-1(SUPP), SC-1(Telephone), SC-2, SC-116, SC-351, SC-920, SC-921(HU), SC-921(SP).

Type of Review: Regular submission.

Affected Public: Individuals or households, business or other for-profit organizations, not-for-profit institutions.

Estimated Number of Respondents:

(June 2008 through June 2009)

Enumerator Questionnaire—152,440 respondents.

Special Place Questionnaire—1,200 respondents.

Address Listing Page—152,440 respondents.

Group Quarters Enumeration Control Sheet—150 respondents.

Housing Unit Add Page—5,000 respondents.

Special Place/Group Quarters Add Page—75 respondents.

Group Quarters Initial Contact Checklist—150 respondents.

Estimated Time Per Response:

Enumerator Questionnaire—7 minutes.

Special Place Questionnaire—5 minutes.

Address Listing Page—1 minute.

Group Quarters Enumeration Control Sheet—10 minutes.

Housing Unit Add Page—1 minute.

Special Place/Group Quarters Add Page—1 minute.

Group Quarters Initial Contact Checklist—10 minutes.

Estimated Total Annual Burden Hours: 20,560.

Estimated Total Annual Cost: There are no costs to respondents other than that of their time to respond.

Respondent's Obligation: Voluntary.

Legal Authority: Title 13, United States Code, section 196.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 22, 2008.
Gwellnar Banks,
Management Analyst, Office of the Chief Information Officer.

[FR Doc. E8-1409 Filed 1-25-08; 8:45 am]

BILLING CODE 3510-07-P